DEPARTMENT OF HEALTH AND HUMAN SERVICES

Centers for Medicare & Medicaid Services

42 CFR Part 412

[CMS-1608-CN]

RIN 0938-AS09

Medicare Program; Inpatient Rehabilitation Facility Prospective Payment System for Federal Fiscal Year 2015; Correction

ACTION: Final rule; Correction.

SUMMARY: This document corrects technical errors that appeared in the final rule with comment period published in the Federal Register on August 6, 2014 entitled “Medicare Program; Inpatient Rehabilitation Facility Prospective Payment System for Federal Fiscal Year 2015” (79 FR 45872).

DATES: The corrections are effective October 1, 2014.

FOR FURTHER INFORMATION CONTACT: Gwendolyn Johnson, (410) 786-6954, for general information.

Charles Padgett, (410) 786-2811, for information about the quality reporting program.

Kadie Thomas, (410) 786-0468, or Susanne Seagrave, (410) 786-0044, for information about the payment policies and the proposed payment rates.

SUPPLEMENTARY INFORMATION:

I. Background

In FR Doc. 2014-18447 of August 6, 2014 (79 FR 45872), there were a number of technical errors, which are identified and corrected in the “Summary of Errors” and “Correction of Errors” sections of this correction document. The provisions of this correction document are effective as if they had been included in the document published on August 6, 2014. Accordingly, the corrections are effective October 1, 2014.

II. Summary of Errors

On page 45910, in Table 8: Quality Measures Finalized in the FY 2014 IRF PPS Final Rule Affecting the FY 2016 and 2017 Adjustments to the IRF Annual Increase Factors and Subsequent Year Increase Factors, we inadvertently omitted the fiscal years affected by each of the listed quality measures, and therefore, are correcting the table.

On page 45911, in our discussion of the FY 2014 IRF PPS final rule, we made a typographical error in identifying the Federal Register citation.

On page 45915, we inadvertently referred to “future year IRP PPS increase factors” instead of “future year IRF PPS increase factors.”

On page 45917, in our discussion of the Continuity Assessment Record and Evaluation (CARE) items, we inadvertently provided an incorrect hyperlink to the CARE reports.

On page 45918, in Table 11: Summary of IRF QRP Measures Affecting the FY 2017 Adjustments to the IRF PPS Annual Increase Factor and Subsequent Year Increase Factors, we inadvertently omitted the superscripts at the end of the sixth and seventh bulleted items.

On page 45921, in our discussion of the IRF Quality Reporting Program (QRP) data completion thresholds, we made a technical error regarding the monthly submission of quality data. We require quarterly submission of healthcare-associated infection data for the National Health Safety Network (NHSN) Catheter-Associated Urinary Tract Infection (CAUTI) Outcome Measure (NQF #0138); quarterly submission of vaccination data for the Percent of Residents or Patients Who Were Assessed and Appropriately Given the Seasonal Influenza Vaccine (Short-Stay) (NQF #0680) measure; and annual submission of vaccination data for the Influenza Vaccination Coverage among Healthcare Personnel (NQF #0431) measure. However, the data submitted for each measure must cover each month of the applicable reporting period.

On page 45922, we made a typographical error in describing where the IRF QRP quality data items can be found in the IRF Patient Assessment Instrument (PAI) training manual.

On page 45922, in our discussion of the IRF PAI training manual, we inadvertently provided an incorrect hyperlink to the manual.

III. Waiver of Proposed Rulemaking

In accordance with section 553(b) of the Administrative Procedure Act (APA) (5 U.S.C. 553(b)), we ordinarily publish a notice of proposed rulemaking in the Federal Register to provide a period for public comment before the provisions of a rule take effect. However, we can waive this notice-and-comment procedure if the Secretary finds, for good cause, that the notice and comment process is impracticable, unnecessary, or contrary to the public interest, and incorporates a statement of the finding and the reasons therefor into the notice.

Section 553(d) of the APA ordinarily requires a 30-day delay in the effective date of final rules after the date of their publication in the Federal Register. This 30-day delay in the effective date can be waived, however, if an agency finds for good cause that the delay is impracticable, unnecessary, or contrary to the public interest, and the agency incorporates a statement of the findings and its reasons in the rule issued.

This document merely corrects typographical and technical errors in the preamble of the FY 2015 IRF PPS final rule. The provisions of that final rule have been subjected to notice-and-comment procedures. The corrections contained in this document are truly technical and/or typographical and do not make substantive changes to the policies and payment methodologies that were adopted in the FY 2015 IRF PPS final rule. Therefore, we find for good cause that it is unnecessary and would be contrary to the public interest to undertake further notice-and-comment procedures to incorporate the corrections in this document into the FY 2015 IRF PPS final rule. For the same reasons, we find that there is good cause to waive the 30-day delay in the effective date for these corrections. Specifically, we believe that it is in the public interest to ensure that the FY 2015 IRF PPS final rule accurately reflects our policies as of the date they take effect. Therefore, we find that delaying the effective date of these corrections beyond the effective date of the final rule would be contrary to the public interest. In so doing, we find good cause to waive the 30-day delay in effective date.

IV. Correction of Errors

In FR Doc. 2014-18447 of August 6, 2014 (79 FR 45872), make the following corrections:

1. On page 45910, Table 8: Quality Measures Finalized in the FY 2014 IRF PPS Final Rule Affecting the FY 2016 and 2017 Adjustments to the IRF Annual Increase Factors and Subsequent Year Increase Factors, the table is corrected to read as follows:

Table 8—Quality Measures Finalized in the FY 2014 IRF PPS Final Rule Affecting the FY 2016 and 2017 Adjustments to the IRF Annual Increase Factors and Subsequent Year Increase Factors
NQF measure ID | Measure title
NQF #0431 + | Influenza Vaccination Coverage among Healthcare Personnel (affecting the FY 2016 adjustment to the IRF annual increase factor and subsequent year increase factors).
NQF #0680* | Percent of Residents or Patients Who Were Assessed and Appropriately Given the Seasonal Influenza Vaccine (Short-Stay) (affecting the FY 2017 adjustment to the IRF annual increase factor and subsequent year increase factors).
NQF #0678* | Percent of Residents or Patients with Pressure Ulcers That Are New or Worsened (Short-Stay)—Adoption of the NQF-Endorsed Version of this Measure. (affecting the FY 2016 adjustment to the IRF annual increase factor and subsequent year increase factors).
NQF #2502** | All-Cause Unplanned Readmission Measure for 30 Days Post-Discharge from Inpatient Rehabilitation Facilities (affecting the FY 2016 adjustment to the IRF annual increase factor and subsequent year increase factors).
+Using the CDC NHSN.
* Using the IRF-PAI Version 1.2 that is effective on October 1, 2014; available at http://www.cms.gov/Medicare/Medicare-Fee-for-Service-Payment/InpatientRehabFacPPS/Downloads/IRF-PAI-FINAL-for-Use-Oct2014-updated-v4.pdf.
** Not NQF-endorsed, currently under review by NQF. (See http://www.qualityforum.org/All-Cause_Admissions_and_Readmissions_Measures.aspx)

2. On page 45911, first column, section C.1, first paragraph, lines 2 and 3, the Federal Register citation “78 FR 47094” is corrected to read “78 FR 47904.”

3. On page 45915, first column following Table 9, first paragraph, line 3, the acronym “IRP” is corrected to read “IRF.”

4. On page 45917, first column, lines 9 through 18, the hyperlink, “http://www.cms.gov/Medicare/Quality-Initiatives-Patient-Assessment-Instruments/Post-Acute-CareQualityInitiatives/Downloads/The-Development-and-Testing-of-the-Continuity-Assessment-Record-and-Evaluation-CARE-Item-Set-Final-Report-on-the-Development-of-the-CARE-Item-Set-and-Current-Assessment-Comparisons-Volume-3-of-3.pdf.” is corrected to read “http://www.cms.gov/Medicare/Quality-Initiatives-Patient-Assessment-Instruments/Post-Acute-Care-Quality-Initiatives/Downloads/The-Development-and-Testing-of-the-Continuity-Assessment-Record-and-Evaluation-CARE-Item-Set-Final-Report-on-the-Development-of-the-CARE-Item-Set-and-Current-Assessment-Comparisons-Volume-3-of-3.pdf.”

5. On page 45917, first column, lines 19 through 27, the hyperlink, “http://www.cms.gov/Medicare/Quality-Initiatives-Patient-Assessment-Instruments/Post-Acute-Care-Quality-Initiatives/Downloads/The-Development-and-Testing-of-the-Continuity-Assessment-Record-and-Evaluation-CARE-Item-Set-Final-Report-on-the-Development-of-the-CARE-Item-Set-Volume-1-of-3.pdf.” is corrected to read “http://www.cms.gov/Medicare/Quality-Initiatives-Patient-Assessment-Instruments/Post-Acute-Care-Quality-Initiatives/Downloads/The-Development-and-Testing-of-the-Continuity-Assessment-Record-and-Evaluation-CARE-Item-Set-Final-Report-on-the-Development-of-the-CARE-Item-Set-Volume-1-of-3.pdf.”

6. On page 45918, Table 11: Summary of IRF QRP Measures Affecting the FY 2017 Adjustments to the IRF PPS Annual Increase Factor and Subsequent Year Increase Factors, the superscript “+”is added at the end of “NQF #1716: National Healthcare Safety Network (NHSN) Facility-Wide Inpatient Hospital-Onset Methicillin-Resistant Staphylococcus aureus (MRSA) Bacteremia Outcome Measure.”

7. On page 45918, Table 11: Summary of IRF QRP Measures Affecting the FY 2017 Adjustments to the IRF PPS Annual Increase Factor and Subsequent Year Increase Factors, the superscript “+”is added at the end of “NQF #1717: National Healthcare Safety Network (NHSN) Facility-Wide Inpatient Hospital-Onset Clostridium difficile Infection (CDI) Outcome Measure.”

8. On page 45921, first column, section J, first paragraph, lines 17 through 20, the phrase “monthly submission of such quality data for the healthcare-associated infection or vaccination data” is corrected to read “submission of healthcare-associated infection or vaccination data covering each month of the applicable reporting period.”

9. On page 45922, first column, line 8, the phrase “Chapter 4” is corrected to read “Section 4.”

10. On page 45922, first column, lines 11 through 15, the hyperlink, “http://www.cms.gov/Medicare/Quality-Initiatives-Patient-Assessment-Instruments/IRF-Quality-Reporting/” “is corrected to read “http://www.cms.gov/Medicare/Quality-Initiatives-Patient-Assessment-Instruments/IRF-Quality-Reporting/Training.html.”

Dated: September 25, 2014.
C'Reda Weeden,
Executive Secretary to the Department, Department of Health and Human Services.

[FR Doc. 2014-23382 Filed 9-30-14; 8:45 am]

BILLING CODE 4120-01-P